DEPARTMENT OF AGRICULTURE

Forest Service

Notice of New Fee Sites; Federal Lands Recreation Enhancement Act

AGENCY: Bitterroot National Forest, Forest Service, USDA.

ACTION: Notice of new fee sites.

SUMMARY: The Bitterroot National Forest is proposing to implement new fees at two campgrounds and one rental cabin. These fees are only proposed and will be determined upon further analysis and public comment.

DATES: Send any comments about these fee proposals by August 13, 2018 so comments can be compiled, analyzed, and shared with the Western Montana Bureau of Land Management Resource Advisory Committee. The effective date of implementation of proposed new fees will be no earlier than six months after publication of this notice.

ADDRESSES: Julie King, Forest Supervisor, Bitterroot National Forest, 1801 N First, Hamilton, MT 59840 or Email to jkking@fs.fed.us.

FOR FURTHER INFORMATION CONTACT: Erica Strayer, Recreation Program Manager, Darby Ranger District, at 406-821-4252 or estrayer@fs.fed.us. Information about proposed fee changes can also be found at www.fs.usda.gov/goto/r1recfee.

SUPPLEMENTARY INFORMATION: The Federal Recreation Lands Enhancement Act (Title VII, Pub. L. 108-447) directed the Secretary of Agriculture to publish a six month advance notice in the Federal Register whenever new recreation fee areas are established. These new fees will be reviewed by the Western Montana Bureau of Land Management Resource Advisory Committee prior to a final decision and implementation.

The Forest proposes a $50/night fee for Lost Horse Guard Station, which would open this site for public rental. The Forest also proposes a $10/night fee for both Slate Creek and Sam Billings Memorial campgrounds. Lost Horse Guard Station was built in 1935 and listed on the National Register of Historic Places in 1989. It lies at the head of Lost Horse Creek, near the Montana/Idaho divide. It is near a variety of recreation opportunities such as hiking, camping, horseback riding, non-motorized water sports, hunting, backcountry skiing, and snowmobiling at Twin Lakes. The rustic guard station can sleep up to eight people.

Slate Creek Campground also has a new group gathering area and Sam Billings Memorial Campground has new horse camping sites. Reasonable fees, paid by users of these sites and services, will help ensure that the Forest can continue maintaining and improving the sites for future generations.

A business analysis of the proposed new fee sites listed has shown that people desire having a variety of recreation opportunities and experiences on the Bitterroot National Forest, such as group camping, cabin and lookout rentals and single family camping. A market analysis of surrounding recreation sites with similar amenities indicates that the proposed fees are comparable and reasonable.

Advance reservations for the Lost Horse Guard Station will be available through www.recreation.gov or by calling 1-877-444-6777. The National Recreation Reservation Service charges a $10 fee for reservations.

Dated: May 17, 2018.
Glenn Casamassa,
Associate Deputy Chief, National Forest System.

[FR Doc. 2018-14910 Filed 7-11-18; 8:45 am]

BILLING CODE 3411-15-P